DEPARTMENT OF COMMERCE

National Oceanic and Atmospheric Administration

[I.D. 043002B]

Stock Assessment of Small Coastal Sharks in the U.S. Atlantic and Gulf of Mexico

AGENCY: National Marine Fisheries Service (NMFS), National Oceanic and Atmospheric Administration (NOAA), Commerce.

ACTION: Notice of availability.

SUMMARY: NMFS announces the availability of a stock assessment report on small coastal sharks (SCS) in the Atlantic and Gulf of Mexico, prepared by the NMFS Southeast Fisheries Science Center.

ADDRESSES: Written requests for copies of the report should be sent to Margo Schulze-Haugen, Highly Migratory Species Management Division (F/SF1), National Marine Fisheries Service (NMFS), 1315 East-West Highway, Silver Spring, MD 20910, or may be sent via facsimile (fax) to 301-713-1917.

FOR FURTHER INFORMATION CONTACT: Margo Schulze-Haugen or Karyl Brewster-Geisz, (301) 713-2347; fax (301) 713-1917.

SUPPLEMENTARY INFORMATION: Several species of SCS are caught in directed fisheries and as bycatch in the southeastern region of the United States. This management group presently includes the Atlantic sharpnose, bonnethead, blacknose, and finetooth sharks. The previous stock assessment of the SCS complex was conducted over a decade ago and the ensuing management plan classified this group as being fully utilized. A substantial amount of information has become available since then, including biological data, improved fisheries statistics, and bycatch estimates from the shrimp trawl fishery. Several new fishery-independent and fishery-dependent catch rate series have become available and previously developed time series have been extended. The report uses this information to assess the status of SCS stocks in the southeastern U.S. region.

The final version of the report is now available on the NMFS website (http://www.nmfs.noaa.gov/sfa/hmspg.html). Hard copies of the document are available upon request (see ADDRESSES).

Authority: 16 U.S.C. 971 et seq. and 1801 et seq.

Dated: May 2, 2002.
Virginia M. Fay,
Acting Director, Office of Sustainable Fisheries, National Marine Fisheries Service.

[FR Doc. 02-11464 Filed 5-7-02; 8:45 am]

BILLING CODE 3510-22-S